FEDERAL COMMUNICATIONS COMMISSION

[FR ID 215693]

Open Commission Meeting Thursday, April 25, 2024

April 18, 2024.

The Federal Communications Commission will hold an Open Meeting on the subjects listed below on Thursday, April 25 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | WIRELINE COMPETITION | Title: Implementation of the National Suicide Hotline Act of 2018 (WC Docket No. 18-336).
|  | Summary: The Commission will consider a Second Further Notice of Proposed Rulemaking, which would propose to require the implementation of one or more georouting solutions for wireless calls to the 988 Suicide & Crisis Lifeline to ensure that calls are routed based on the geographic location for the origin of the call, rather than the area code and exchange associated with a wireless phone.
|  | manufacturers to meet higher cybersecurity standards.
2 | WIRELINE COMPETITION | Title: Safeguarding and Securing the Open Internet (WC Docket No. 23-320); Restoring Internet Freedom (WC Docket No. 17-108).
|  | Summary: The Commission will consider a Declaratory Ruling, Order, Report and Order, and Order on Reconsideration that would reestablish the Commission's authority to protect consumers and safeguard the fair and open Internet by.
3 | ENFORCEMENT | Title: Enforcement Bureau Action Coverage. Summary: The Commission will consider an enforcement action.
4 | ENFORCEMENT | Title: Enforcement Bureau Action Coverage.
|  | Summary: The Commission will consider an enforcement action.
5 | ENFORCEMENT | Title: Enforcement Bureau Action Coverage.
|  | Summary: The Commission will consider an enforcement action.
6 | ENFORCEMENT | Title: Enforcement Bureau Action Coverage.
|  | Summary: The Commission will consider an enforcement action.
7 | ENFORCEMENT | Title: Enforcement Bureau Action Coverage.
|  | Summary: The Commission will consider an enforcement action.
8 | ENFORCEMENT | Title: Enforcement Bureau Action Coverage
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Katura Jackson,
Federal Register Liaison Officer, Office of the Secretary.

[FR Doc. 2024-08745 Filed 4-23-24; 8:45 am]

BILLING CODE 6712-01-P